Proclamation 9502 of September 23, 2016

Gold Star Mother's and Family's Day, 2016

By the President of the United States of America

A Proclamation

Since our Nation's founding, in peace and in war, the values that define our brave men and women in uniform have remained constant: honor, courage, and selflessness. From the deafening sounds of combat to the silence of the sacred hills at Arlington, we remember the countless sacrifices our service members make to preserve the freedoms we too often take for granted. No one understands the true price of these freedoms like our Gold Star families, whose humility, even in times of grief, represents the best of our country. Today, we recognize their sacrifices by listening to their stories, sharing in their pain and pride, and pledging to do all we can to honor them and the loved ones they hold close in their hearts.

Through unspeakable sorrow, our Gold Star families suffer from loss that can never be restored—pain that can never truly be healed. It is because of their selfless character and unfailing grace that Americans can come home each day, gather with family and friends, and live in peace and security. And though the debt our fallen soldiers and their families pay is one we can never fully pay back, we must continue to support our veterans when they come home and stand by our military families who endure unthinkable loss. We must maintain the sacred covenant we share with our veterans by ensuring they have the care and benefits they deserve, and as citizens, we must all work to lift each other up in a manner that is worthy of those who laid down their lives to protect the land and freedoms we cherish.

Less than one percent of our Nation wear the uniform, but all of us have an obligation to acknowledge the losses endured by Gold Star Mothers and Families and to fill the painful absence of their loved ones with our profound gratitude. We must strive to support these families—not just with words, but with actions—by being there every day for the parents, spouses, and children who feel the weight of their loss. On this day of remembrance, may we carry forward the work of those who gave their last full measure of devotion and vow to keep their memories burning bright in our hearts. And may we lift up their families, who have steadfastly supported their mission through immeasurable heartbreak, by remaining a Nation worthy of their sacrifice.

The Congress, by Senate Joint Resolution 115 of June 23, 1936 (49 Stat. 1985 as amended), has designated the last Sunday in September as “Gold Star Mother's Day.”

NOW, THEREFORE, I, BARACK OBAMA, President of the United States of America, by virtue of the authority vested in me by the Constitution and the laws of the United States, do hereby proclaim September 25, 2016, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-third day of September, in the year of our Lord two thousand sixteen, and of the Independence of the United States of America the two hundred and forty-first.

[FR Doc. 2016-23634

Filed 9-27-16; 11:15 am]

Billing code 3295-F6-P